DEPARTMENT OF AGRICULTURE

Rural Utilities Service

National Power Cooperative, Inc., Notice of availability of an environmental assessment

AGENCY: Rural Utilities Service, USDA.

ACTION: Notice of Availability of an Environmental Assessment.

SUMMARY: Notice is hereby given that the Rural Utilities Service (RUS) is issuing an environmental assessment with respect to the potential environmental impacts related to the construction of a 510 megawatt, natural gas fired combustion turbine electric generation plant in northwest Ohio. RUS may provide financing assistance to National Power Cooperative for the project.

FOR FUTHER INFORMATION CONTACT: Bob Quigel, Environmental Protection Specialist, Rural Utilities Service, Engineering and Environmental Staff, Stop 1571, 1400 Independence Avenue, SW, Washington, DC 20250-1571, telephone: (202) 720-0468. Bob's e-mail address is bquigel@rus.usda.gov. Information is also available from Keith A. Crabtree of National Power Cooperative at (614) 846-5757. Keith's e-mail address is kac@buckeyepower.com.

SUPPLEMENTARY INFORMATION: National Power Cooperative, a wholly owned subsidiary of the Ohio Rural Electric Cooperatives, proposes to construct the natural gas fired electric generation plant at one of two potential sites. One site is located in Van Wert County near Convoy, just southwest of the intersection of Mentzer Road and Shaner Road. The other site is located in Allen County, east of Cairo, north of the Lincoln Highway between Stewart Road and Slabtown Road.

The proposed project will be composed of three gas fired turbine generation units with an output of 170 megawatts each. The entire plant will require approximately 30 acres. No major natural gas pipeline or electric transmission line improvements will be needed at either site beyond the proposed site boundaries.

National Power Cooperative prepared an environmental analysis for RUS which describes the project and assesses its environmental impacts. RUS has conducted an independent evaluation of the environmental analysis and believes that it accurately assesses the impacts of the proposed project. This environmental analysis will serve as RUS' environmental assessment of the project. No significant impacts are expected as a result of the construction of the project.

The environmental assessment can be reviewed at the National Power Cooperative headquarters located at 6677 Busch Boulevard, Columbus, Ohio. This document will also be available at the Lima Public Library, 650 W. Market St., Lima, Ohio (419-228-5113) and it's Cairo Branch, 519 Wall St., Cairo, Ohio (419-641-7744) and at the Brumback Library, 215 W. Main St. in Van Wert, Ohio (419-238-2168) and it's Convoy Branch, 116 E. Tully St., Convoy, Ohio (419-749-4000). It can also be reviewed at the headquarters of RUS at the address provided above.

Questions and comments should be sent to RUS at the address provided. RUS will accept questions and comments on the environmental assessment for at least 30 days from the date of publication of this notice.

Any final action by RUS related to the proposed project will be subject to, and contingent upon, compliance with all relevant Federal environmental laws and regulations and completion of environmental review procedures as prescribed by the 7 CFR Part 1794, Environmental Policies and Procedures.

Dated: July 24, 2000.
Glendon D. Deal,
Acting Director, Engineering and Environmental Staff.

[FR Doc. 00-19190 Filed 7-28-00; 8:45 am]

BILLING CODE 3410-15-P